DEPARTMENT OF TRANSPORTATION

Federal Aviation Administration

Notice of a Finding of No Significant Impact, Record of Decision and Environmental Assessment for Proposed Actions Relating to a Noise Abatement Departure Procedure at Sarasota Bradenton International Airport

AGENCY: Federal Aviation Administration.

ACTION: Finding of no significant impact record of decision.

SUMMARY: On March 8, 2001, the Federal Aviation Administration (FAA) approved a Finding of No Significant Impact and Record of Decision (FONSI/ROD) for a proposed noise-abatement departure procedure at Sarasota Bradenton International Airport. The change in departure procedures was requested by the Sarasota Manatee Airport Authority to achieve noise level reductions over the neighboring community in Manatee County north of the airport. The proposed actions include turning aircraft departing Runway 32 over land-use areas northwest of the airport that are more compatible with the noise emissions of aircraft, and avoiding new significant residential noise impacts. The FONSI/ROD was approved after the FAA evaluated the potential benefits and impacts of nine alternatives in an Environmental Assessment.

Issued in College Park, Georgia on March 8, 2001.
Benny L. McGlamery,
Acting Manager, Air Traffic Division, Federal Aviation Administration, Southern Region.

[FR Doc. 01-6532 Filed 3-15-01; 8:45 am]

BILLING CODE 4910-13-M